DEPARTMENT OF ENERGY

Federal Energy Regulatory Commission

[Docket No. AD21-9-000]

The Office of Public Participation; Supplemental Notice of Workshop on Technical Assistance

On August 23, 2021, the Federal Energy Regulatory Commission Office of Public Participation (OPP) issued a notice of a September 16, 2021 virtual workshop to discuss, with the U.S. Department of Energy's Pacific Northwest National Laboratory (PNNL), technical assistance in electric proceedings. The workshop will no longer be held on September 16, 2021, but will be held on October 7, 2021, from 1:00 p.m. to 4:30 p.m. Eastern time.

The workshop will include a panelist discussion on technical assistance followed by facilitated break-out sessions for attendees to discuss their technical assistance needs. The workshop will explore barriers preventing the public, including consumers and consumer advocates, from fully participating in Commission proceedings and explore how OPP can facilitate technical assistance.

The workshop will be open for the public to attend, and there is no fee for attendance. Further details on the agenda, including registration information, can be found on the PNNL website. Information on this technical workshop will also be posted on the Calendar of Events on the Commission's website, www.ferc.gov, prior to the event.

The workshop will be accessible under section 508 of the Rehabilitation Act of 1973. For accessibility accommodations, please send an email to accessibility@ferc.gov or call toll free 1-866-208-3372 (voice) or 202-502-8659 (TTY) or send a FAX to 202-208-2106 with the required accommodations.

For more information about the workshop, please contact Corey Cox of the Commission's Office of Public Participation at 202-502-6848 or send an email to OPPWorkshop@ferc.gov. This notice is issued and published in accordance with 18 CFR 2.1.

Dated: September 8, 2021.
Kimberly D. Bose,
Secretary.

[FR Doc. 2021-19778 Filed 9-13-21; 8:45 am]

BILLING CODE 6717-01-P